DEPARTMENT OF THE INTERIOR

Bureau of Land Management

[WY-920-1320-EL, WYW151643]

Notice of Competitive Coal Lease Sale, Wyoming

AGENCY: Bureau of Land Management, Interior.

ACTION: Notice of competitive coal lease sale.

SUMMARY: Notice is hereby given that certain coal resources in the West Antelope Tract described below in Converse County, WY, will be offered for competitive lease by sealed bid in accordance with the provisions of the Mineral Leasing Act of 1920, as amended (30 U.S.C. 181 et seq.).

DATES: The lease sale will be held at 10 a.m., on Wednesday, December 15, 2004. Sealed bids must be submitted on or before 4 p.m., on Tuesday, December 14, 2004.

ADDRESSES: The lease sale will be held in the First Floor Conference Room (Room 107), of the Bureau of Land Management (BLM) Wyoming State Office, 5353 Yellowstone Road, P.O. Box 1828, Cheyenne, WY 82003. Sealed bids must be submitted to the Cashier, BLM Wyoming State Office, at the address given above.

FOR FURTHER INFORMATION CONTACT: Mavis Love, Land Law Examiner, or Robert Janssen, Coal Coordinator, at 307-775-6258, and 307-775-6206, respectively.

SUPPLEMENTARY INFORMATION: This coal lease sale is being held in response to a lease by application (LBA) filed by Antelope Coal Company of Gillette, WY. The coal resources to be offered consist of all reserves recoverable by surface mining methods in the following-described lands located just south of the Campbell/Converse County line south southeast of Wright, Wyoming, in northern Converse County approximately 2 miles east of State Highway 59 and crossed by Antelope Creek:

T. 40 N., R. 71 W., 6th PM, Wyoming

Sec. 3: Lots 15-18;

Sec. 4: Lots 5-20;

Sec. 5: Lots 5-7, 10-15, 19, 20;

Sec. 9: Lot 1;

Sec. 10: Lots 3, 4;

T. 41 N., R. 71 W., 6th PM, Wyoming

Sec. 28: Lots 9-16;

Sec. 29: Lots 9-11, 14-16;

Sec. 32: Lots 1-3, 6-11, 14-16;

Sec. 33: Lots 1-16.

Containing 2,809.13 acres, more or less.

The tract is adjacent to Federal coal leases held by the Antelope Mine to the east. It is also adjacent to additional unleased Federal coal to the north, south and west.

All of the acreage offered has been determined to be suitable for mining. However, Antelope Creek and an adjacent buffer zone are not expected to be mined. Other features such as pipelines can be moved to permit coal recovery. No producing oil and/or gas wells have been drilled on the tract. All of the surface estate is controlled by the Antelope Mine.

The tract contains surface mineable coal reserves in the Wyodak seam currently being recovered in the adjacent, existing mine. In this area, the Wyodak seam is generally split into the Anderson and Canyon seams. The shallower Anderson seam ranges from about 26-34 feet thick and occurs over most of the LBA. It is the only mineable seam south of Antelope Creek. The deeper Canyon seam is mineable only north of Antelope Creek on the LBA. It is split on the LBA tract and ranges from about 12-35 feet thick for the upper split and from about 11-19 feet thick for the lower split. The overburden depths range from about 93-195 feet thick north of Antelope Creek and from about 54-127 feet thick south of Antelope Creek on the LBA. The interburden between the Anderson and Canyon seams ranges from about 46-69 feet thick on the LBA. The interburden between the Canyon splits ranges from about 3-7 feet thick.

The tract contains an estimated 194,961,000 tons of mineable coal. This estimate of mineable reserves includes the two main seams and split mentioned above but does not include any tonnage from localized seams or splits containing less than 5 feet of coal. The total mineable stripping ratio (BCY/Ton) of the coal is about 3.0:1. Potential bidders for the LBA should consider the recovery rate expected from thick seam and multiple seam mining.

The West Antelope LBA coal is ranked as subbituminous C. The overall average quality on an as-received basis is 8858 BTU/lb with about 0.23% sulfur and 1.86% sodium in the ash. These quality averages place the coal reserves near the high end of the range of coal quality currently being mined in the Wyoming portion of the Powder River Basin.

The tract will be leased to the qualified bidder of the highest cash amount provided that the high bid meets or exceeds the BLM's estimate of the fair market value of the tract. The minimum bid for the tract is $100 per acre or fraction thereof. No bid that is less than $100 per acre, or fraction thereof, will be considered. The bids should be sent by certified mail, return receipt requested, or be hand delivered. The Cashier will issue a receipt for each hand-delivered bid. Bids received after 4 p.m., on Tuesday, December 14, 2004, will not be considered. The minimum bid is not intended to represent fair market value. The fair market value of the tract will be determined by the Authorized Officer after the sale. The lease issued as a result of this offering will provide for payment of an annual rental of $3.00 per acre, or fraction thereof, and of a royalty payment to the United States of 12.5 percent of the value of coal produced by strip or auger mining methods and 8 percent of the value of the coal produced by underground mining methods. The value of the coal will be determined in accordance with 30 CFR 206.250.

Bidding instructions for the tract offered and the terms and conditions of the proposed coal lease are available from the BLM Wyoming State Office at the addresses above. Case file documents, WYW151643, are available for inspection at the BLM Wyoming State Office.

Melvin Schlagel,
Acting Deputy State Director, Minerals and Lands.

[FR Doc. 04-24635 Filed 11-9-04; 8:45 am]

BILLING CODE 4310-22-P